DEPARTMENT OF THE INTERIOR

National Park Service

Notice of Inventory Completion for Native American Human Remains and Associated Funerary Objects in the Possession of the Peabody Museum of Archaeology and Ethnology, Harvard University, Cambridge, MA; Correction

AGENCY: National Park Service, Interior.

ACTION: Notice; correction.

Notice is here given in accordance with the Native American Graves Protection and Repatriation Act (NAGPRA), 25 U.S.C. 3003, of the completion of an inventory of human remains in the possession of the Peabody Museum of Archaeology and Ethnology, Harvard University, Cambridge, MA. The human remains were removed from Columbia County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

This notice corrects the list of culturally affiliated groups listed in a Notice of Inventory Completion published in the Federal Register (66 FR 17736, April 3, 2001). Information derived from recent consultations has resulted in the addition of the Coeur D'Alene Tribe of the Coeur D'Alene Reservation, Idaho; Confederated Tribes of the Umatilla Indian Reservation, Oregon; Confederated Tribes of the Warm Springs Reservation of Oregon; and Wanapum Band, a non-Federally recognized Indian group, to the culturally affiliated list.

The notice published in the Federal Register (66 FR 17736, April 3, 2001) is replaced with the following:

A detailed assessment of the human remains was made by Peabody Museum of Archaeology and Ethnology professional staff in consultation with representatives of the Coeur D'Alene Tribe of the Coeur D'Alene Reservation, Idaho; Confederated Tribes of the Colville Reservation, Washington; Nez Perce Tribe, Idaho; Spokane Tribe of the Spokane Reservation, Washington; Confederated Tribes of the Umatilla Indian Reservation, Oregon; Confederated Tribes of the Warm Springs Reservation of Oregon; Confederated Tribes and Bands of the Yakama Nation, Washington; and Wanapum Band, a non-Federally recognized Indian group,

In 1871, human remains representing one individual were collected from the banks of the Snake River at the mouth of Tucannon, near Fort Taylor, Columbia County, WA, by C.R. Greenleaf. In 1872, Mr. Greenleaf gifted these human remains to the Peabody Museum of Archaeology and Ethnology. No known individual was identified. No associated funerary objects are present.

Museum documentation identifies this individual as a “Palouse Indian.” The attribution of such a specific cultural affiliation to the human remains indicates that the interment post-dates sustained contact between indigenous groups and Europeans beginning in the early 19th century. The human remains were from an area commonly considered to be traditional Palouse territory during this period. Oral traditions and historic evidence indicate that although some Palouse people occupied their traditional territory until the mid-1900s, many Palouse people went to live on neighboring reservations beginning in the late 19th century, where they continue to maintain their group identity as Palouse people. Based on consultation with the Indian Tribes listed above, the present-day tribes representing the Palouse people are the Coeur D'Alene Tribe of the Coeur D'Alene Reservation, Idaho; Confederated Tribes of the Colville Reservation, Washington; Nez Perce Tribe, Idaho; Confederated Tribes of the Umatilla Indian Reservation, Oregon; Confederated Tribes of the Warm Springs Reservation of Oregon; Confederated Tribes and Bands of the Yakama Nation, Washington; and Wanapum Band, a non-Federally recognized Indian group.

Officials of the Peabody Museum of Archaeology and Ethnology, Harvard University have determined that, pursuant to 25 U.S.C. 3001 (9-10), the human remains described above represent the physical remains of one individual of Native American ancestry. Officials of the Peabody Museum of Archaeology and Ethnology, Harvard University also have determined that, pursuant to 25 U.S.C. 3001 (2), there is a relationship of shared group identity that can be reasonably traced between the Native American human remains and the Coeur D'Alene Tribe of the Coeur D'Alene Reservation, Idaho; Confederated Tribes of the Colville Reservation, Washington; Nez Perce Tribe, Idaho; Confederated Tribes of the Umatilla Indian Reservation, Oregon; Confederated Tribes of the Warm Springs Reservation of Oregon; Confederated Tribes and Bands of the Yakama Nation, Washington; and Wanapum Band, a non-Federally recognized Indian group.

Representatives of any other Indian tribe that believes itself to be culturally affiliated with the human remains should contact Patricia Capone, Repatriation Coordinator, Peabody Museum of Archaeology and Ethnology, Harvard University, 11 Divinity Avenue, Cambridge, MA 02138, telephone (617) 496-3702, before April 13, 2009. Repatriation of the human remains to the Coeur D'Alene Tribe of the Coeur D'Alene Reservation, Idaho; Confederated Tribes of the Colville Reservation, Washington; Nez Perce Tribe, Idaho; Confederated Tribes of the Umatilla Indian Reservation, Oregon; Confederated Tribes of the Warm Springs Reservation of Oregon; Confederated Tribes and Bands of the Yakama Nation, Washington; and Wanapum Band, a non-Federally recognized Indian group, may proceed after that date if no additional claimants come forward.

The Peabody Museum of Archaeology and Ethnology, Harvard University is responsible for notifying the Coeur D'Alene Tribe of the Coeur D'Alene Reservation, Idaho; Confederated Tribes of the Colville Reservation, Washington; Nez Perce Tribe, Idaho; Spokane Tribe of the Spokane Reservation, Washington; Confederated Tribes of the Umatilla Indian Reservation, Oregon; Confederated Tribes of the Warm Springs Reservation of Oregon; Confederated Tribes and Bands of the Yakama Nation, Washington; and Wanapum Band, a non-Federally recognized Indian group, that this notice has been published.

Dated: February 13, 2009
Sangita Chari,
Acting Manager, National NAGPRA Program.

[FR Doc. E9-5333 Filed 3-11-09; 8:45 am]

BILLING CODE 4312-50-S